DEPARTMENT OF TRANSPORTATION

Federal Highway Administration

Notice of Final Federal Agency Action on Proposed Highway Project in Georgia, the Courtesy Parkway Extension From Old Covington Highway to Flat Shoals Road, Rockdale County, Georgia (Atlanta Metropolitan Area)

AGENCY: Federal Highway Administration (FHWA), Department of Transportation (DOT).

ACTION: Notice of limitations on claims for judicial review of action by FHWA and other federal agencies.

SUMMARY: This notice announces actions taken by FHWA and other Federal agencies that are final. This final agency action relates to the construction of the new roadway, known as the Courtesy Parkway Extension, which would bridge over Interstate 20 (I-20) and tie into Flat Shoals Road east of Old Salem Road in Rockdale County, Georgia. The FHWA's Finding of No Significant Impact (FONSI) provides details on the Selected Alternative for the proposed improvements.

DATES: By this notice, FHWA is advising the public of the final agency actions subject to 23 U.S.C. 139(l)(1). A claim seeking judicial review of the Federal agency actions on the highway project will be barred unless the claim is filed on or before November 15, 2021. If the Federal law that authorizes judicial review of a claim provides a time period of less than 150 days for filing such claim, then that shorter time period still applies.

FOR FURTHER INFORMATION CONTACT: For FHWA: Mr. Aaron Hernandez, Environmental Coordinator, Federal Highway Administration Georgia Division, 61 Forsyth Street, Suite 17T100, Atlanta, Georgia 30303; telephone (404) 562-3584; email: aaron.hernandez@dot.gov. The FHWA Georgia Division Office's normal business hours are 8:00 a.m. to 5:00 p.m. (Eastern Time) Monday through Friday. For Georgia Department of Transportation (GDOT): Mr. Eric Duff, State Environmental Administrator, Georgia Department of Transportation, 600 West Peachtree Street NW, 16th Floor, Atlanta, Georgia 30308; telephone (404) 631-1100; email: eduff@dot.ga.gov. The GDOT Office of Environmental Service's normal business hours are 8:00 a.m. to 5:00 p.m. (Eastern Time) Monday through Friday.

SUPPLEMENTARY INFORMATION: Notice is hereby given that FHWA has taken a final agency action by issuing a FONSI for the following highway project in the State of Georgia: The Courtesy Parkway Extension located in Rockdale County, Georgia. The proposed project will increase north-south connectivity between residential areas south of I-20 and commercial areas north of I-20, provide congestion relief, and reduce the frequency and severity of crashes along SR 138/McDonough Highway through the construction of a new location roadway, Courtesy Parkway Extension (N 33.645040, E-83.991673), that would bridge over Interstate 20 (I-20) and tie into Flat Shoals Road Southeast (SE) located approximately 0.5 miles east of Old Salem Road SE and includes connecting roads to Iris Drive. The project would include a new, three-lane, undivided urban roadway from Old Covington Highway to Flat Shoals Road, totaling 1.5 miles. The roadway would bridge over I-20, 1,200 feet east of the existing Courtesy Parkway and would include connection roadways to tie into Iris Drive. The roadway would intersect with Courtesy Parkway alignment from this intersection to Old Covington Highway. The project would include intersection improvements on Flat Shoals Road, Old Covington Highway, and Iris Drive for additional turn lanes. The typical section of the roadway would include curb, gutter, and sidewalk. Five-foot sidewalks are proposed on the existing roads, including Flat Shoals Road and Old Covington Highway as well as the proposed new roadway. Six-foot sidewalks would be added to the proposed bridge.

The FHWA's action, related actions by other Federal agencies, and the laws under which such actions were taken are described in the Environmental Assessment (EA) approved on December 17, 2020, in FHWA's FONSI issued on May 26, 2021, and other documents in the project file. The EA, FONSI and other project records are available by contacting FHWA or the Georgia Department of Transportation at the addresses listed above. The EA and FONSI can also be reviewed and downloaded from the project website at https://majormobilityga.com/projects/eastsideic/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Noise: Noise Control Act of 1972 [42 U.S.C. 4901-4918]; 23 CFR part 772; Federal-Aid Highway Act of 1970, Public Law 91-605 [84 Stat. 1713].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(mm)]; Archeological and Historic Preservation Act [16 U.S.C. 469-469(c)]; Native American Grave Protection and Repatriation Act (NAGPRA) [25 U.S.C. 3001-3013].

7. Social and Economic: Civil Rights Act of 1964 [42 U.S.C. 2000(d)—2000(d)(1)]; American Indian Religious Freedom Act [42 U.S.C. 1996]; Farmland Protection Policy Act (FPPA) [7 U.S.C. 4201-4209].

8. Wetlands and Water Resources: Land and Water Conservation Fund (LWCF) [16 U.S.C. 4601-4604]; Safe Drinking Water Act (SDWA) [42 U.S.C. 300(f)-300(j)(6)]; Wild and Scenic Rivers Act [16 U.S.C. 1271- 1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children from Environmental Health Risks and Safety Risks; E.O. 13112 Invasive Species.

(Catalog of Federal Domestic Assistance Program Number 20.205, Highway Planning and Construction. The regulations implementing E.O. 12372 regarding intergovernmental consultation on Federal programs and activities apply to this program.)

Authority: 23 U.S.C. 139(l)(1).

Moises Marrero,
Division Administrator, Atlanta, Georgia.

[FR Doc. 2021-12597 Filed 6-16-21; 8:45 am]

BILLING CODE 4910-RY-P